DEPARTMENT OF COMMERCE

National Oceanic and Atmospheric Administration

50 CFR Part 648

[Docket No. 0910051338-0151-02]

RIN 0648-XY03

Fisheries of the Northeastern United States; Northeast Multispecies Fishery; Implementation of Trip Limit for Witch Flounder and Removal of Trip Limit for Pollock

AGENCY: National Marine Fisheries Service (NMFS), National Oceanic and Atmospheric Administration (NOAA), Commerce.

ACTION: Temporary rule; inseason adjustment of landing limits.

SUMMARY: This action implements a landing limit for witch flounder and removes the trip limit for pollock for Northeast (NE) multispecies vessels fishing under common pool regulations for the 2010 fishing year (FY). This action also corrects a previously published cod trip limit for common pool vessels fishing under a limited access Handgear A permit. This action is authorized by the regulations implementing Amendment 16 and Framework Adjustment 44 (FW 44) to the NE Multispecies Fishery Management Plan (FMP) and is intended to decrease the likelihood of harvest exceeding the subcomponent of the annual catch limit (ACL) for witch flounder allocated to the common pool (common pool sub-ACL) and underharvesting the sub-ACL for pollock during FY 2010 (May 1, 2010, through April 30, 2011). This action is being taken to optimize the harvest of NE regulated multispecies under the authority of the Magnuson-Stevens Fishery Conservation and Management Act (Magnuson-Stevens Act).

DATES: Changes to the pollock and cod Handgear A trip limits are effective August 6, 2010, through April 30, 2011. The witch flounder trip limit is effective August 9, 2010, through April 30, 2011.

FOR FURTHER INFORMATION CONTACT: Brett Alger, Fishery Management Specialist, (978) 675-2153, fax (978) 281-9135.

SUPPLEMENTARY INFORMATION: Regulations governing possession and landing limits for vessels fishing under common pool regulations are found at 50 CFR 648.86. The regulations authorize vessels issued a valid limited access NE multispecies permit and fishing under a NE multispecies day-at-sea (DAS), or fishing under a NE multispecies Small Vessel or Handgear A or B category permit, to fish for and retain NE multispecies, under specified conditions. The vessels fishing in the common pool are allocated a sub-ACL equivalent to that portion of the commercial groundfish ACL that is not allocated to the 17 approved NE multispecies sectors for FY 2010. The final rule implementing FW 44 (75 FR 18356, April 9, 2010) established ACLs for FY 2010, including the common pool sub-ACL for witch flounder of 25 mt. A subsequent emergency rule published on July 20, 2010 (75 FR 41996), increased the ACL for pollock based on the results of a new stock assessment, and changed the FY 2010 common pool sub-ACL from 62 mt to 375 mt. Currently, there is no landing limit for witch flounder, and the landing limit for pollock is 1,000 lb (453.6 kg) per DAS up to 10,000 lb (4,535.9 kg) per trip.

The regulations at § 648.86(o) authorize the Administrator, Northeast (NE) Region, NMFS (Regional Administrator) to increase or decrease the trip limits for vessels in the common pool to prevent over-harvesting or under-harvesting the common pool sub-ACL. Exceeding the common pool sub-ACL prior to April 30, 2011, would likely require drastic trip limit reductions and/or imposition of differential DAS counting for the remainder of FY 2010 to minimize the overage, and would trigger accountability measures (AMs) in FY 2011, including differential DAS counting, to prevent future overages.

Initial Vessel Monitoring System (VMS) and dealer reports indicate that approximately 93.5 percent of the witch flounder common pool sub-ACL has been harvested as of August 4, 2010. Analysis of historic landings of witch flounder indicates that a trip limit of 130 lb (59.0 kg) per trip will result in achieving the sub-ACL without exceeding it. Historically, 80 percent of trips that land witch flounder land less than 500 lb (226.8 kg), and 78 percent of those trips land less than 200 lb (90.7 kg). Therefore, this trip limit is expected to allow vessels to land witch flounder that are caught incidentally, but prevent trips with large landings of witch flounder which have been having a significant impact on the overall catch rate. This possession limit is expected to prevent the common pool from exceeding the sub-ACL for witch flounder while still allowing vessels an opportunity to fish for all other NE multispecies.

As a result of the recent sub-ACL increase for pollock, the current rate of harvest would leave a substantial portion of the sub-ACL unharvested by the common pool in FY 2010. Initial VMS and dealer reports indicate that approximately 7.3 percent of the increased pollock allocation has been harvested as of August 4, 2010. Given the available sub-ACL and current trip limit of 1,000 lb (453.6 kg) per DAS, up to 10,000 lb (4,535.9 kg) per trip, projections indicate complete removal of the trip limit is warranted to allow greater harvest of the common pool sub-ACL by the end of the FY (April 30, 2011).

An inseason action that published on July 30, 2010 (75 FR 44924), reduced the common pool landing limit for Gulf of Maine (GOM) cod by 75 percent, and made a proportional adjustment to the trip limit for all stocks of cod for vessels with a limited access Handgear A permit from 300 lb (136.1 kg) per trip, to 75 lb (340 kg) per trip. However, the regulations at § 648.82(b)(6), specify the “Handgear A cod trip limit shall be adjusted proportionally to the trip limit for GOM cod (rounded up to the nearest 50 lb (22.7 kg)).” Therefore, the new limit should have been rounded up to 100 lb per trip.

Based on this information, the Regional Administrator is removing the pollock trip limit for all common pool vessels, and the cod limit for Handgear A vessels is corrected to 100 lb (45.4 kg) per trip effective August 6, 2010, through April 30, 2011. In addition, the Regional Administrator is imposing a 130-lb (59.0-kg) per trip limit on witch flounder for all common pool vessels effective August 9, 2010, through April 30, 2011.

Catch will be closely monitored through dealer-reported landings, VMS catch reports, and other available information. Further inseason adjustments to increase or decrease the trip limits, as well as differential DAS measures, may be considered, based on updated catch data and projections. Conversely, if the common pool sub-ACL is projected to be under-harvested by the end of FY 2010, in-season adjustments to increase the trip limit will be considered.

Classification

This action is authorized by 50 CFR part 648 and is exempt from review under Executive Order 12866.

Pursuant to 5 U.S.C. 553(b)(3)(B) and (d)(3), there is good cause to waive prior notice and opportunity for public comment, as well as the delayed effectiveness for this action, because notice, comment, and a delayed effectiveness would be impracticable and contrary to the public interest. The regulations under § 648.86(o) grant the RA the authority to adjust NE multispecies trip limits to prevent over-harvesting or under-harvesting the common pool sub-ACLs. This action implements a trip limit for witch flounder and removes the trip limit for pollock, in order to ensure that the common pool sub-ACLs are not overharvested or underharvested, respectively, and that the biological and economic objectives of the FMP are met.

It is important to take this action immediately because, based on current data and projections, continuation of the status quo trip limits will result in reaching the common pool sub-ACL for witch flounder prior to the end of the FY and under-harvesting the sub-ACL for pollock. Exceeding any of the common pool sub-ACLs prior to the end of the FY on April 30, 2011, would likely result in lower trip limits and differential DAS counting for the remainder of FY 2010 to minimize the amount of over harvest, and would result in AMs to be put in place for the common pool in FY 2011. These restrictions could result in the loss of yield of other valuable species of groundfish caught by vessels in the common pool.

The information that is the basis for this action includes ACLs updated after May 1, 2010, and recent catch data. The time necessary to provide for prior notice and comment, and delayed effectiveness for this action would prevent NMFS from implementing a reduced trip limit in a timely manner. A resulting delay in the trip limit changes of these two stocks could result in less revenue for the fishing industry and be counter to the objective of achieving optimum yield.

The Regional Administrator's authority to decrease or increase trip limits for the common pool to help ensure that the common pool sub-ACL for all NE multispecies are harvested, but not exceeded, was considered and open to public comment during the development of FW 44. Therefore, any negative effect the waiving of public comment and delayed effectiveness may have on the public is mitigated by these factors.

Authority: 16 U.S.C. 1801 et seq.

Dated: August 6, 2010.
Carrie Selberg,
Acting Director, Office of Sustainable Fisheries, National Marine Fisheries Service.

[FR Doc. 2010-19851 Filed 8-6-09; 4:15 pm]

BILLING CODE 3510-22-S